DEPARTMENT OF TRANSPORTATION

Federal Aviation Administration

14 CFR Part 39

[Docket No. FAA-2008-1240; Directorate Identifier 2008-NM-098-AD]

RIN 2120-AA64

Airworthiness Directives; Hawker Beechcraft Corporation Model BH.125 Series 600A Airplanes and Model HS.125 Series 700A Airplanes Modified in Accordance With Supplemental Type Certificate (STC) SA2271SW

AGENCY: Federal Aviation Administration (FAA), DOT.

ACTION: Notice of proposed rulemaking (NPRM).

SUMMARY: We propose to adopt a new airworthiness directive (AD) for certain Hawker Beechcraft Corporation Model BH.125 series 600A airplanes and Model HS.125 series 700A airplanes. This proposed AD would require inspecting the wiring diagrams containing the cockpit blowers and comparing with the current airplane configuration, and reworking the wiring if necessary. This proposed AD results from a report indicating that a blower motor of the cockpit ventilation and avionics cooling system seized up and gave off smoke. We are proposing this AD to prevent smoke and fumes in the cockpit in the event that a blower motor seizes and overheats due to excessive current draw.

DATES: We must receive comments on this proposed AD by January 12, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Hawker Beechcraft Corporation, Department 62, P.O. Box 85, Wichita, Kansas 67201-0085; telephone 316-676-8238; fax 316-676-6706; e-mail tmdc@hawkerbeechcraft.com; Internet https://www.hawkerbeechcraft.com/service_support/pubs.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (telephone 800-647-5527) is in the ADDRESSES section. Comments will be available in the AD docket shortly after receipt.

FOR FURTHER INFORMATION CONTACT: Andy Shaw, Aerospace Engineer, Special Certification Office, ASW-190, FAA Southwest Regional Office, 2601 Meacham Boulevard, Fort Worth, Texas 76137; telephone (817) 222-5188; fax (817) 222-5785.

SUPPLEMENTARY INFORMATION:

Comments Invited

We invite you to send any written relevant data, views, or arguments about this proposed AD. Send your comments to an address listed under the ADDRESSES section. Include “Docket No. FAA-2008-1240; Directorate Identifier 2008-NM-098-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We have received a report indicating that a blower motor of the cockpit ventilation and avionics cooling system seized up and gave off smoke on a Raytheon Model Hawker 125-800 airplane. Investigation revealed inadequate short circuit protection on the blower motor electrical circuit. This condition, if not corrected, could result in smoke and fumes in the cockpit in the event that a blower motor seizes and overheats due to excessive current draw.

The cockpit blowers on certain Hawker Beechcraft Corporation Model BH.125 series 600A airplanes and Model HS.125 series 700A airplanes modified in accordance with Supplemental Type Certificate (STC) SA2271SW are identical to those on the affected Raytheon Model Hawker 125-800 airplanes. Therefore, all of these models may be subject to the same unsafe condition.

Other Relevant Rulemaking

We previously issued AD 2005-16-02, amendment 39-14207 (70 FR 44273, August 2, 2005), applicable to certain Raytheon Model HS.125 series 700A airplanes, Model BAe.125 series 800A airplanes, and Model Hawker 800 and Hawker 800XP airplanes. That AD requires inspecting to determine the current rating of the circuit breakers of certain cockpit ventilation and avionics cooling system blowers; and replacing the circuit breakers and modifying the blower wiring, as applicable.

Relevant Service Information

We have reviewed Hawker Beechcraft Mandatory Service Bulletin 24-3850, dated January 2008. The service bulletin describes procedures for inspecting the wiring diagrams containing the cockpit blowers and comparing with the current airplane configuration, and reworking the wiring if necessary.

FAA's Determination and Requirements of This Proposed AD

We are proposing this AD because we evaluated all relevant information and determined the unsafe condition described previously is likely to exist or develop in other products of the(se) same type design(s). This proposed AD would require accomplishing the actions specified in the service information described previously, except as discussed under “Differences Between the Proposed AD and Service Bulletin.”

Differences Between the Proposed AD and Service Bulletin

Although the NOTE specified in paragraph 3.A. of the Accomplishment Instructions of Hawker Beechcraft Mandatory Service Bulletin 24-3850 specifies that operators should consult the Inspection Authorization, Designated Engineering Representative, FAA, or Hawker Beechcraft Corporation for determination as to the suitability of the service bulletin, this proposed AD would require that the determination be approved by the FAA.

Operators should note that, although the Accomplishment Instructions of the referenced service bulletin describe procedures for submitting a sheet recording compliance with the service bulletin, this proposed AD would not require that action.

Costs of Compliance

We estimate that this proposed AD would affect 40 airplanes of U.S. registry. We also estimate that it would take about 1 work-hour per product to comply with this inspection proposed by this AD. The average labor rate is $80 per work-hour. Based on these figures, we estimate the cost of this proposed AD to the U.S. operators to be $3,200, or $80 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866,

2. Is not a “significant rule” under the DOT Regulatory Policies and Procedures (44 FR 11034, February 26, 1979), and

3. Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Arkansas Modification Center, Inc.: Docket No. FAA-2008-1240; Directorate Identifier 2008-NM-098-AD.

Comments Due Date

(a) We must receive comments by January 12, 2009.

Affected ADs

(b) None.

Applicability

(c) This AD applies to Hawker Beechcraft Corporation Model BH.125 series 600A airplanes and Model HS.125 series 700A airplanes, certificated in any category; as identified in Hawker Beechcraft Mandatory Service Bulletin 24-3850, dated January 2008, which have been modified in accordance with Supplemental Type Certificate SA2271SW.

Unsafe Condition

(d) This AD results from a report indicating that a blower motor of the cockpit ventilation and avionics cooling system seized up and gave off smoke. We are issuing this AD to prevent smoke and fumes in the cockpit in the event that a blower motor seizes and overheats due to excessive current draw.

Compliance

(e) Comply with this AD within the compliance times specified, unless already done.

Inspection and Rework

(f) Within 600 flight hours or 6 months after the effective date of this AD, whichever occurs first, inspect the wiring diagrams containing the cockpit blowers and compare with the current airplane configuration, in accordance with the Accomplishment Instructions of Hawker Beechcraft Mandatory Service Bulletin 24-3850, dated January 2008; except as provided by paragraph (g) of this AD.

(1) If the current airplane configuration does not match the applicable cockpit blower wiring diagrams, before further flight, rework the wiring using a method approved by the Manager, Special Certification Office, ASW-190, Rotorcraft Directorate, FAA. For the determination to be approved by the Manager, Special Certification Office, as required by this paragraph, the Manager's approval letter must specifically refer to this AD.

(2) If the current airplane configuration matches the applicable cockpit blower wiring diagrams, before further flight, rework the wiring in accordance with the Accomplishment Instructions of Hawker Beechcraft Mandatory Service Bulletin 24-3850, dated January 2008.

No Submission of Certain Information

(g) Although Hawker Beechcraft Mandatory Service Bulletin 24-3850, dated January 2008, specifies to submit certain information to the manufacturer, this AD does not include that requirement.

Alternative Methods of Compliance (AMOCs)

(h)(1) The Manager, Special Certification Office, ASW-190, Rotorcraft Directorate, FAA, ATTN: Andy Shaw, Aerospace Engineer, Special Certification Office, ASW-190, FAA, Southwest Regional Office, 2601 Meacham Boulevard, Fort Worth, Texas 76137; telephone (817) 222-5188; fax (817) 222-5785; has the authority to approve AMOCs for this AD, if requested using the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Issued in Renton, Washington, on November 16, 2008.
Stephen P. Boyd,
Assistant Manager, Transport Airplane Directorate, Aircraft Certification Service.

[FR Doc. E8-28168 Filed 11-25-08; 8:45 am]

BILLING CODE 4910-13-P